FEDERAL RESERVE SYSTEM

Privacy Act of 1974; System of Records

AGENCY: Board of Governors of the Federal Reserve System.

ACTION: Notice of a modified system of records.

SUMMARY: Pursuant to the provisions of the Privacy Act of 1974, notice is given that the Board of Governors of the Federal Reserve System (Board) proposes to modify an existing system of records, entitled BGFRS-7, “FRB—Payroll and Leave Records.” This system of records includes records of pay statements, tax forms, leave entries for worker's compensation data, and leave data, including codes indicating reasons for taking leave (e.g., family illness, military leave).

DATES: Comments must be received on or before October 11, 2023. This new system of records will become effective October 11, 2023, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-7 “FRB—Payroll and Leave Records,” by any of the following methods:

• Agency Website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

In general, all public comments will be made available on the Board's website at https://www.federalreserve.gov/generalinfo/foia/ProposedRegs.cfm as submitted, and will not be modified to remove confidential, contact or any identifiable information. Public comments may also be viewed electronically or in paper in Room M-4365A, 2001 C St. NW, Washington, DC 20551, between 9:00 a.m. and 5:00 p.m. during federal business weekdays.

FOR FURTHER INFORMATION CONTACT: David B. Husband, Senior Counsel, (202) 530-6270, or david.b.husband@frb.gov; Legal Division, Board of Governors of the Federal Reserve System, 20th Street and Constitution Avenue NW, Washington, DC 20551. For users of telephone systems via text telephone (TTY) or any TTY-based Telecommunications Relay Services, please call 711 from any telephone anywhere in the United States.

SUPPLEMENTARY INFORMATION: The Board is modifying this system of records to reflect general changes and modifications since the Board's last review of this system. The Board is updating the record source categories to indicate that in addition to collecting payroll and leave information via various forms, it can also be collected via other human resources or information systems. The Board is also modifying the purpose of the system to state that the system is intended to assist with “financial reporting” as opposed to “cost-accounting programs” and taking the opportunity to update the system manager and the system location.

The Board is proposing to modify system specific routine use #9 to clarify that federal agencies have a broader ability to collect debts than through administrative or salary offset or tax refunds. The Board is therefore adding the phrase “or other federal payments, or by other legally authorized means” at the end of the existing system specific routine use, to reflect the possibility of collecting debts by garnishing the wages of non-federal employees, referring the debt to a private collection agency, through direct contact with the debtor, or via other legally permissible means of collecting the debt. The Board is also updating the routine uses to include a link to the Board's general routine use but is not otherwise establishing new routine uses or modifying existing uses.

The Board is also making technical changes to BGFRS-7 consistent with the template laid out in OMB Circular No. A-108. Accordingly, the Board has made technical corrections and non-substantive language revisions to the following categories: “Policies and Practices for Storage of Records,” “Policies and Practices for Retrieval of Records,” “Policies and Practices for Retention and Disposal of Records,” “Administrative, Technical and Physical Safeguards,” “Record Access Procedures,” “Contesting Record Procedures,” and “Notification Procedures.” The Board has also created the following new fields: “Security Classification” and “History.”

SYSTEM NAME AND NUMBER:

BGFRS-7 “FRB—Payroll and Leave Records”.

SECURITY CLASSIFICATION:

Unclassified.

SYSTEM LOCATION:

Board of Governors of the Federal Reserve System, 20th Street and Constitution Avenue NW, Washington, DC 20551. Records are also stored by the Board's contractor, Workday, Inc. located at 6110 Stoneridge Mall Road, Pleasanton, CA 94588 and outside vendors for certain tax forms.

SYSTEM MANAGER(S):

Thomas Murphy, Associate Director, Division of Financial Management, Board of Governors of the Federal Reserve System, 20th Street and Constitution Avenue NW, Washington, DC 20551, (202) 452-3092, or thomas.j.murphy@frb.gov.

AUTHORITY FOR MAINTENANCE OF THE SYSTEM:

Sections 10 and 11 of the Federal Reserve Act (12 U.S.C. 244 and 248), and Executive Order 9397.

PURPOSE(S) OF THE SYSTEM:

These records are collected and maintained by the Board for payroll, attendance, leave, insurance, tax, retirement, budget, and financial reporting, and to facilitate compliance with statutory requirements.

CATEGORIES OF INDIVIDUALS COVERED BY THE SYSTEM:

Past and present employees and members of the Board.

CATEGORIES OF RECORDS IN THE SYSTEM:

Payroll records, including pay statements; requests for deductions; tax and Social Security withholdings; Board retirement deductions; any voluntary withholdings; tax forms; W-2 forms; overtime requests; leave data; leave entries for worker's compensation data; leave records, including compensatory time, and codes indicating reasons for taking leave, such as family illness, or military leave.

RECORD SOURCE CATEGORIES:

Information is provided by the individual or his or her supervisor via various forms or systems reports such as federal, state, and local tax forms, employee authorizations and directives, insurance forms, leave and overtime reports, and federal and state garnishment forms.

ROUTINE USES OF RECORDS MAINTAINED IN THE SYSTEM, INCLUDING CATEGORIES OF USERS AND PURPOSES OF SUCH USES:

General routine uses A, B, C, D, E, F, G, H, I, and J apply to this system. These general routine uses are located at https://www.federalreserve.gov/files/SORN-page-general-routine-uses-of-board-systems-of-records.pdf and are published in the Federal Register at 83 FR 43872 at 43873-74 (August 28, 2018). Records may also be used:

1. To disclose information to the Office of Child Support Enforcement of the United States Department of Health and Human Services, for use in locating individuals, verifying Social Security Numbers, and identifying their income sources to establish paternity, establishing and modifying orders of child support, identifying sources of income, and for other child support enforcement actions;

2. To disclose information appropriate federal and state agencies to provide required reports including data on unemployment insurance;

3. To disclose information to the Social Security Administration to report FICA deductions;

4. To disclose information to charitable institutions to report contributions;

5. To disclose information to the Internal Revenue Service and to state, local, tribal, and territorial governments for tax purposes;

6. To disclose information to the Office of Personnel Management in connection with programs administered by that office;

7. To disclose information to an employee, agent, contractor, or administrator of any Board, Federal Reserve System, or federal government employee benefit or savings plan, any information necessary to carry out any function authorized under such plan, or to carry out the coordination or audit of such plan;

8. To disclose information to officials of labor organizations recognized under applicable law, regulation, or policy when relevant and necessary to their duties of exclusive representation concerning personnel policies, practices, and matters affecting working conditions;

9. To disclose information to a federal agency for the purpose of collecting a debt owed the federal government through administrative or salary offset or the offset of tax refunds or other federal payments, or by other legally authorized means;

10. To disclose relevant information to other federal agencies conducting computer matching programs to eliminate fraud and abuse and to detect unauthorized overpayments made to individuals; and

11. To disclose information to verify for an entity preparing to make a mortgage or other loan to an employee the individual's employment status and salary, at the request of the individual.

POLICIES AND PRACTICES FOR STORAGE OF RECORDS:

Paper records in this system are stored in locked file cabinets with access limited to staff with a need to know. Electronic records are stored on a secure server with access limited to staff with a need to know.

POLICIES AND PRACTICES FOR RETRIEVAL OF RECORDS:

Records can be retrieved by name, social security number, or employee identification number.

POLICIES AND PRACTICES FOR RETENTION AND DISPOSAL OF RECORDS:

All records are retained for the appropriate period which ranges from one year from the date of annual audit or when six years old (whichever is sooner) to sixty-five years after separation or transfer of the employee.

ADMINISTRATIVE, TECHNICAL, AND PHYSICAL SAFEGUARDS:

Paper records are secured by lock and key and electronic files are stored on secure servers. The system has the ability to track individual user actions within the system. The audit and accountability controls are based on NIST and Board standards which, in turn, are based on applicable laws and regulations. The controls assist in detecting security violations and performance or other issues in the system. Access to the system is restricted to authorized users within the Board who require access for official business purposes. Users are classified into different roles and common access and usage rights are established for each role. User roles are used to delineate between the different types of access requirements such that users are restricted to data that is required in the performance of their duties. Periodic assessments and reviews are conducted to determine whether users still require access, have the appropriate role, and whether there have been any unauthorized changes.

RECORD ACCESS PROCEDURES:

The Privacy Act allows individuals the right to access records maintained about them in a Board system of records. Your request for access must: (1) contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—Secretary of the Board, Board of Governors of the Federal Reserve System, 20th Street and Constitution Avenue NW, Washington, DC 20551.

You may also submit your Privacy Act request electronically by filling out the required information at: https://foia.federalreserve.gov/.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

None.

HISTORY:

This SORN was previously published in the Federal Register at 73 FR 24984 (May 6, 2008). The SORN was also amended to incorporate two new routine uses required by OMB at 83 FR 43872 (August 28, 2018).

Board of Governors of the Federal Reserve System.
Ann Misback,
Secretary of the Board.

[FR Doc. 2023-19484 Filed 9-8-23; 8:45 am]

BILLING CODE P